DEPARTMENT OF DEFENSE

Department of the Army

Notice of Intent To Prepare an Environmental Impact Statement (EIS) for the Real Property Master Plan (RPMP) and Real Property Exchange (RPX) for the Parks Reserve Forces Training area (RFTA), Dublin, CA

AGENCY: Department of the Army, DoD.

ACTION: Notice of intent.

SUMMARY: The U.S. Army's Installation Management Agency-Army Reserve Division (IMA-ARD) and Parks RFTA intend to prepare an EIS in support of the installation's RPMP and RPX. The RPMP presents a plan for rapid redevelopment of the cantonment area of Parks RFTA, with 182 acres of the current cantonment area being transferred out of Federal ownership under the RPX program. These actions have the potential to significantly affect certain natural, economic, social, and cultural resources in and adjacent to Parks RFTA. The EIS will evaluate the environmental impacts associated with the implementation of the RPMP/FPX and other alternatives, while also developing mitigation measures when appropriate.

ADDRESSES: Interested parties desiring additional information regarding this proposed project or to be placed on a project information mailing list can contact: Installation Management Agency—Army Reserve Division (SFIM-AR/Mr. Borchardt), 1401 Deshler Street, Fort McPherson, Georgia 30330-2000.

FOR FURTHER INFORMATION CONTACT: Installation Management Agency—Army Reserve Division (SFIM-AR/Mr. Borchardt), 1401 Deshler Street, Fort McPherson, Georgia 30330-2000 or by sending electronic mail to david.borchardt.JMWaller@usarc-emh2.army.mil.

SUPPLEMENTARY INFORMATION: The strategic location of the Parks RFTA in northern California makes it the most accessible and economic training resource for over 250 Reserve component units supporting over 20,000 Reservists. The installation supports combined training space and facilities for the Armed Forces, and other Federal and local agencies in the north central part of California. The IMA-ARD has prepared an RPMP that proposed a program for revitalizing the installation infrastructure and accelerating facility replacements.

The RPMP for Parks RFTA was completed in November 2002. The RPMP proposes approximately 1.3 million square feet of new buildings/structures and approximately 370,000 square feet of parking area. The majority of the existing structures on Parks RFTA were intended to be temporary and are inadequate for today's military personnel and lifestyle. The RPMP proposes the modernization of facilities to meet the troop training requirements and amenities that are consistent to the private sector.

Alternatives to be considered include (1) no action, (2) incremental modernization utilizing existing cantonment area, and (3) accelerated modernization in a redeveloped compacted cantonment area. These alternatives will be refined and other alternatives may be developed further during the preparation of the EIS as a result of public input and environmental analysis. the study area for the environmental analysis will be the Cantonment Area and a small portion of the Training Area of Parks RFTA and the surrounding community.

Issues: Parks RFTA contains approximately 2,500 acres of which approximately 500 acres are located in the Cantonment Area. The majority of the RPMP involves the redevelopment of the Cantonment area. The EIS will analyze potential impacts to resources, which are expected to include natural resources, cultural resources, archaeological resources, human health and safety, socioeconomics, land use changes, air/noise/traffic impacts, and other impacts that will be identified through the scoping process and other analysis in the EIS.

Scoping: A public scoping meeting will be held in close proximity to Parks RFTA. The date and time of these meetings will be announced in the general media and will be at times and locations convenient to the public. A scoping letter will be sent to interested organizations, individuals, Federal, state, and local agencies inviting attendance. To be considered in the EIS, comments and suggestions should be received no later than 15 days following the public scoping meeting.

Dated: November 7, 2003.
Raymond J. Fatz,
Deputy Assistant Secretary of the Army, (Environmental, Safety and Occupational Health) OASA(I&E).

[FR Doc. 03-28723 Filed 11-17-03; 8:45 am]

BILLING CODE 3710-08-M